FEDERAL COMMUNICATIONS COMMISSION

Public Information Collection(s) Approved by Office of Management and Budget

AGENCY: Federal Communications Commission.

ACTION: Notice.

SUMMARY: The Federal Communications Commission has received approval from the Office of Management and Budget (OMB) for the public information collection(s): OMB Control Numbers: 3060-1077, Digital Channel Election for Television Broadcast Station: Pre-Election Certification Form, FCC Form 381; OMB 3060-1076, Digital Channel Election Form: First Round Election, FCC Form 382; OMB 3060-1075, Digital Channel Election Form: First Round Conflict Decision, FCC Form 383; OMB 3060-1074, Digital Channel Election Form: Second Round Election, FCC Form 384; OMB 3060-1073, Digital Channel Election Form: Second Round Conflict Decision, FCC Form 385; OMB 3060-1072, Digital Channel Election Form: Third Round Election, FCC Form 386.

DATES: Effective date for these public information collections is October 1, 2004.

FOR FURTHER INFORMATION CONTACT: Kim Matthews, Media Bureau, (202) 418-2120.

SUPPLEMENTARY INFORMATION: The Federal Communications Commission has received OMB approval for OMB Control Numbers: 3060-1072 through 3060-1077. The effective date for these public information collections is October 1, 2004. The expiration date is March 31, 2005.

Pursuant to the Paperwork Reduction Act of 1995, Pub. L. 104-13, an agency may not conduct or sponsor a collection of information unless it displays a currently valid control number. Notwithstanding any other provisions of law, no person shall be subject to any penalty for failing to comply with a collection of information subject to the Paperwork Reduction Act (PRA) that does not display a valid control number. Questions concerning these revised information collections should be directed to Leslie F. Smith, Federal Communications Commission, (202) 418-0217 or via the Internet at Leslie.Smith@fcc.gov.

Federal Communications Commission.
Marlene H. Dortch,
Secretary.

[FR Doc. 04-23188 Filed 10-14-04; 8:45 am]

BILLING CODE 6712-01-P